DEPARTMENT OF HEALTH AND HUMAN SERVICES

[Document Identifier: OS-0990-30D]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 25, 2024.

ADDRESSES: Submit your comments to Sherrette.Funn@hhs.gov or by calling (202) 264-0041 and PRA@HHS.GOV

FOR FURTHER INFORMATION CONTACT: When submitting comments or requesting information, please include the document identifier 0990-0313 and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Blood Collection & Utilization Survey (NBCUS)

Type of Collection: Revision

OMB No. 0990-30D-0313 Office of the Assistant Secretary for Health/HHS

Abstract

The Office of the Assistant Secretary for Health (OASH) is requesting approval for a three-year revised information collection request (ICR) titled “National Blood Collection & Utilization Survey (NBCUS).” The NBCUS is a biennial survey that includes a core of standard questions on blood collection, processing, and utilization practices. Questions on transfusion-transmitted infections, transfusion associated circulatory overload, acute hemolysis, delayed hemolysis, and severe allergic reactions are also included in the survey. The rapidly changing environment in blood supply and demand makes it important to have regular, periodic data describing the state of U.S. blood collections and transfusions for understanding the dynamics of blood safety and availability. In 2023, two sections were removed from the survey related to the impact of the COVID-19 pandemic on the blood supply during the course of 2020.

Survey respondents will consist of blood collection centers and hospitals that perform blood transfusions, except those reporting fewer than 100 inpatient surgeries per year. For the purposes of this ICR, federal burden is only being placed on facilities located within the fifty states and the District of Columbia. The total estimated burden is 5,106 hours.

Estimated Annualized Burden Hours
Type of respondent | Number of respondents | Number responses per respondent | Average burden per response (in hours) | Total burden hours
Transfusing Hospitals | 2754 | 1 | 1 hour, 46 min | 4,865
Hospital Blood Banks | 83 | 1 | 1 hour, 46 min | 147
Community-based blood center | 53 | 1 | 1 hour, 46 min | 94
Total | 2,890 |  |  | 5,106

James Berger,
Senior Advisor for Blood and Tissue Safety, Office of the Assistant Secretary for Health.

[FR Doc. 2023-28412 Filed 12-22-23; 8:45 am]

BILLING CODE 4150-41-P